DEPARTMENT OF TRANSPORTATION

Pipeline and Hazardous Materials Safety Administration

[Docket No. PHMSA-2022-0161]

Pipeline Safety: Informational Public Meeting Addressing Multiple Safety Topics Including Methane Emission Reduction, Safety Bulletins, and NTSB Recommendations

AGENCY: Pipeline and Hazardous Materials Safety Administration (PHMSA), DOT.

ACTION: Notice of an informational public meeting.

SUMMARY: This notice announces an informational public meeting to address multiple safety topics including progress on reduction of methane emissions, energy transformation, safety bulletins, and National Transportation Safety Board (NTSB) recommendations. PHMSA will also webcast the in-person public meeting in Houston, Texas, which is scheduled for December 13-15, 2022.

DATES: The informational public meeting will be held on December 13-15, 2022, from 8:30 a.m. until 4:30 p.m., CT at the Westin Galleria, in Houston, Texas. Members of the public who wish to attend this meeting are asked to register no later than December 7, 2022. Individuals requiring accommodations, such as sign language interpretation or other aids, are asked to notify Jessica Appel by email at Jessica.Appel.ctr@dot.gov no later than November 30, 2022. PHMSA will also webcast this meeting. For additional information, please see the ADDRESSES section of this notice.

ADDRESSES: The informational public meeting will be held at: Westin Galleria Houston, 5060 West Alabama Street, Houston, Texas. The agenda and instructions on how to attend are available on the meeting website at https://primis.phmsa.dot.gov/meetings/MtgHome.mtg?mtg=161.

Presentations from the informational public meeting will be available on the meeting website no later than 5 business days following the meeting.

FOR FURTHER INFORMATION CONTACT: Linda Daugherty by email at Linda.Daugherty@dot.gov.

SUPPLEMENTARY INFORMATION:

I. Background

The mission of PHMSA is to protect people and the environment by advancing the safe transportation of energy products and other hazardous materials that are essential to our daily lives. PHMSA's mission includes prevention of the release of natural gas which releases methane into the atmosphere. PHMSA is aggressively pursuing the DOT Strategic Goals of Safety, Climate & Sustainability, and Transformation in efforts to be profiled during the informational public meeting. PHMSA will discuss with the public and industry how it is improving safety by issuing advisory bulletins based on lessons learned from events like the geohazard related failure which threatened the community of Satartia, Mississippi, and the crude oil spill following an anchor strike on an offshore pipeline near Long Beach, California. PHMSA will also discuss recent learnings related to hard spot analyses and challenges presented by pipeline flow reversals. The meeting will highlight technology transformations to combat climate change and keep aging pipeline infrastructure safe for use in transporting energy of the future.

Additionally, the NTSB recently recommended that PHMSA revise its regulations for potential impact radius (PIR) calculations and this meeting will provide the Agency an opportunity to gather input from both industry and public stakeholders. Ensuring PIR calculations fully consider the potential impacts to congested urban areas is particularly important and supports efforts to ensure equitable safety protections for all people.

The informational public meeting will continue a dialogue on the Agency's climate and energy transformation efforts, such as reducing methane emissions, and PHMSA's current role regarding carbon dioxide and hydrogen pipelines. PHMSA anticipates further discussion on these important matters in 2023.

The overall purpose of the informational public meeting is to share important safety information with the public and industry as well as gather input to inform future rulemaking decisions.

II. Informational Public Meeting Details and Agenda

The informational public meeting will take place in-person December 13-15, 2022, in Houston, Texas. During the meeting, PHMSA will review a variety of topics and invite participant input. Following opening remarks, the webinar will address the following topics: (1) Recent and Potential Safety Advisories (Geohazard/Land Movement, Maritime Issues, Hard Spots, Flow Reversals); (2) The Future: Technology and New Regulatory Requirements (Technology Transfer: Innovative Tools That Can Be Used by Industry and PHMSA's New Regulation Implementation Process); (3) Failure Investigation Forum (Overview of Recent Accidents/Incidents and Common Enforcement Items Found During Incidents); (4) Potential Impact Radius (Discussion of Incident and NTSB Recommendation); and (5) The Future: Climate and Energy Transformation (Reducing Methane Emissions, Hydrogen and Hydrogen Blending, Carbon Dioxide/Carbon Capture, Utilization, and Storage.)

III. Public Participation

The informational meeting will be open to the public. Members of the public who wish to attend are requested to register on the meeting website and include their names and organization affiliation (see ADDRESSES). PHMSA is committed to providing all participants with equal access to these meetings. If you need special accommodations, please contact Jessica Appel by email at Jessica.Appel.ctr@dot.gov.

PHMSA is not always able to publish a notice in the Federal Register quickly enough to provide timely notification regarding last minute changes that impact a previously announced meeting. Therefore, individuals should check the meeting website listed in the ADDRESSES section of this notice regarding any possible changes.

Issued in Washington, DC, on November 23, 2022, under authority delegated in 49 CFR 1.97.
Alan K. Mayberry,
Associate Administrator for Pipeline Safety.

[FR Doc. 2022-26052 Filed 11-28-22; 8:45 am]

BILLING CODE 4910-60-P